DEPARTMENT OF LABOR

Employment and Training Administration

Labor Surplus Area Classification; Under Executive Orders 12073 and 10582

ACTION: Notice.

SUMMARY: The purpose of this notice is to announce the annual list of labor surplus areas for Fiscal Year (FY) 2008.

DATES: Effective Date: The annual list of labor surplus areas is effective October 1, 2007 for all states, the District of Columbia, and Puerto Rico.

FOR FURTHER INFORMATION CONTACT: Anthony D. Dais, Office of Workforce Investment, Employment and Training Administration, 200 Constitution Avenue, NW., Room S-4231, Washington, DC 20210. Telephone: (202) 693-2784 (This is not a toll-free number).

SUPPLEMENTARY INFORMATION: The Department of Labor's regulations implementing Executive Orders 12073 and 10582 are set forth at 20 CFR Part 654, Subparts A and B. These regulations require the Assistant Secretary of Labor for the Employment and Training Administration (ETA) to classify jurisdictions as labor surplus areas pursuant to the criteria specified in the regulations and to publish annually a list of labor surplus areas. Pursuant to those regulations, the Assistant Secretary of Labor is hereby publishing the annual list of labor surplus areas.

In addition, the regulations provide exceptional circumstance criteria for classifying labor surplus areas when catastrophic events, such as natural disasters, plant closings, and contract cancellations are expected to have a long-term impact on labor market area conditions, discounting temporary or seasonal factors.

Eligible Labor Surplus Areas

Procedures for Classifying Labor Surplus Areas

Under the labor surplus area classification methodology, areas are classified as having a surplus of labor based on civil jurisdictions rather than on metropolitan statistical areas or labor market areas. Civil jurisdictions are defined as all cities with a population of at least 25,000 and all counties. Townships with a population of 25,000 or more are also considered as civil jurisdictions in four states (Michigan, New Jersey, New York, and Pennsylvania). In Connecticut, Massachusetts, Puerto Rico, and Rhode Island, where counties have very limited or no government functions, the classifications are done for individual towns.

A civil jurisdiction is classified as a labor surplus area when its average unemployment rate was at least 20 percent above the average unemployment rate for all states (including the District of Columbia and Puerto Rico) during the previous two calendar years. During periods of high national unemployment, the 1.20 percent ratio is disregarded and an area is classified as a labor surplus area if its unemployment rate during the previous two calendar years was 10 percent or more. This 10 percent “ceiling” comes into effect whenever the two-year average unemployment rate for all states was 8.3 percent or above (i.e., 8.3 percent times the 1.20 ratio equals 10.0 percent). Similarly, a “floor” of 6.0 percent is used during periods of low national unemployment in order for an area to qualify as a labor surplus area. The six percent “floor” comes into effect whenever the average unemployment rate for all states during the two-year reference period was 5.0 percent or less.

The Department of Labor issues the labor surplus area list on a fiscal year basis. The list becomes effective each October 1 and remains in effect through the following September 30. The reference period used in preparing the current list was January 2005 through December 2006. The national average unemployment rate during this period was 4.9 percent. Applying the “floor” concept, the unemployment rate for an area to qualify as having a surplus of labor for FY 2008 is 6.0 percent. Therefore, areas included on the FY 2008 labor surplus area list had an average unemployment rate of 6.0 percent or above during the reference period. The FY 2008 labor surplus area list can be accessed at http://www.doleta.gov/programs/lsa.cfm.

Petition for Exceptional Circumstance Consideration

The classification procedures also provide for the designation of labor surplus areas under exceptional circumstance criteria. These procedures permit the regular classification criteria to be waived when an area experiences a significant increase in unemployment which is not temporary or seasonal and which was not reflected in the data for the two-year reference period. Under the program's exceptional circumstance procedures, labor surplus area classifications can be made for civil jurisdictions, Metropolitan Statistical Areas or Primary Metropolitan Statistical Areas. In order for an area to be classified as a labor surplus area under the exceptional circumstance criteria, the state workforce agency must submit a petition requesting such classification to the Department of Labor's Employment and Training Administration. The current criteria for an exceptional circumstance classification are: an area unemployment rate of at least 6.0 percent for each of the three most recent months; a projected unemployment rate of at least 6.0 percent for each of the next 12 months; and documentation that the exceptional circumstance event has already occurred. The state workforce agency may file petitions on behalf of civil jurisdictions, as well as Metropolitan Statistical Areas or Primary Metropolitan Statistical Areas, as defined by the Office of Management and Budget (OMB). The addresses of state workforce agencies are available in this notice and on the ETA Web site at http://www.doleta.gov/programs/lsa.cfm. State workforce agencies may submit petitions in electronic format to dais.anthony@dol.gov, or in hard copy to the U.S. Department of Labor, Employment and Training Administration, Office of Workforce Investment, 200 Constitution Avenue, NW., Room S-4231, Washington, DC 20210. Data collection for the petition is approved under OMB 1205-0207, dated November 23, 2004.

State Workforce Agencies

Alabama—Department of Industrial Relations, 649 Monroe St., Room 2204, Montgomery 36131.

Alaska—Department of Labor & Workforce Development, P.O. Box 111149, Juneau 99811-1149.

Arizona—Arizona Department of Economic Security, P.O. Box 6123, Site Code 901A, Phoenix 85005.

Arkansas—Employment Security Department, P.O. Box 2981, Little Rock 72203.

California—Employment Development Department, 800 Capitol Mall, Sacramento 95814.

Colorado—Department of Labor and Employment, 633 17th Street, suite 1200, Denver 80202-3660.

Connecticut—Connecticut Department of Labor, 200 Folly Brook Boulevard, Wethersfield 06109.

Delaware—Delaware Department of Labor, Division of Employment & Training, 4425 North Market Street, Wilmington 19802.

District of Columbia—Department of Employment Services, 64 New York Avenue NE., Suite 3000, Washington 20002.

Florida—Agency for Workforce Innovation, 107 E. Madison Street, Suite 212, Caldwell Building, Tallahassee 32399-4120.

Georgia—Georgia Department of Labor, 148 Andrew Young International Boulevard NE., Suite 600, Atlanta 30303.

Hawaii—Department of Labor and Industrial Relations, 830 Punchbowl St., Room 321, Honolulu 96813.

Idaho—Department of Labor, 317 W. Main Street, Boise 83735.

Illinois—Department of Employment Security, 33 S. State Street, Chicago 60602-2802.

Indiana—Department of Workforce Development, 10 North Senate Avenue, Room SE 302, Indianapolis 46204-2277.

Iowa—Iowa Workforce Development, 1000 East Grand Avenue, Des Moines 50319.

Kansas—Kansas Department of Commerce, 1000 SW. Jackson Street, Suite 100, Topeka 66612-1354.

Kentucky—Department of Workforce Investment, 275 East Main Street, Frankfort 40601.

Louisiana—Department of Labor, P.O. Box 94094, 1001 N. 23rd Street, Baton Rouge 70804.

Maine—Department of Labor, 45 Commerce Drive, P.O. Box 259, Augusta 04332-0259.

Maryland—Department of Labor, Licensing and Regulation, 1100 N. Eutaw Street, Room 616, Baltimore 21201.

Massachusetts—Division of Unemployment Insurance, 19 Staniford Street, 3rd Floor, Boston 02114.

Michigan—Department of Labor & Economic Growth, Ottowa Building—4th Floor, 611 W. Ottawa Street, Lansing 48909.

Minnesota—Department of Employment & Economic Development, 332 Minnesota Street, Suite E 200, St. Paul 55101-1351.

Mississippi—Employment Security Commission, 1235 Echelon Parkway, Jackson 39213.

Missouri—Department of Labor and Industrial Relations, P.O. Box 504, 421 East Dunklin, Jefferson City 65102.

Montana—Department of Labor and Industry, 1327 Lockey, P.O. Box 1728, Helena 59624-1728.

Nebraska—Department of Labor, 550 South 16th Street, Lincoln 68509.

Nevada—Department of Employment, Training and Rehabilitation, 500 E. Third Street, Carson City 89713.

New Hampshire—Department of Employment Security, 32 S. Main Street, Concord 03301.

New Jersey—Department of Labor and Workforce Development, P.O. Box 110, John Fitch Plaza, Trenton 08625-0110.

New Mexico—Department of Labor, 401 Broadway, NE., P.O. Box 1928, Albuquerque 87103.

New York—Department of Labor, State Campus-Building 12, Albany 12240.

North Carolina—Employment Security Commission, P.O. Box 25903, Raleigh 27611.

North Dakota—Job Service North Dakota, 1000 E. Divide Ave., P.O. Box 5507, Bismarck 58506-5507.

Ohio—Department of Jobs and Family Services, 30 E. Broad Street, 32nd Floor, Columbus 43215.

Oklahoma—Employment Security Commission, 2401 North Lincoln Boulevard, Oklahoma City 73105.

Oregon—Oregon Employment Department, 875 Union St., NE., Salem 97311.

Pennsylvania—Department of Labor & Industry, 7th and Forster Streets, L&I Building, 17th Floor, Harrisburg 17121.

Puerto Rico—Department of Labor and Human Resources, 505 Munoz Rivera Avenue, P.O. Box 364452, Hato Rey 00936-4452.

Rhode Island—Department of Labor & Training, 1511 Pontiac Avenue, Cranston 02920.

South Carolina—Employment Security Commission, P.O. Box 995, Columbia 29202.

South Dakota—Department of Labor, 700 Governors Drive, Pierre 57501.

Tennessee—Department of Labor and Workforce Development, 710 James Robertson Parkway, 8th Floor—Andrew Johnson Tower, Nashville 37243 .

Texas—Texas Workforce Commission, 101 East 15th Street, Room 618, Austin 78778.

Utah—Department of Workforce Services, 140 East 300 South, Salt Lake City 84145-0249.

Vermont—Department of Labor, 5 Green Mountain Drive, P.O. Box 488, Montpelier 05601-0488.

Virginia—Virginia Employment Commission, 703 East Main Street, Richmond 23219.

Washington—Employment Security Department, P.O. Box 9046, Olympia 98507-9046.

West Virginia—Bureau of Employment Programs, 112 California Ave., Charleston 25305.

Wisconsin—Department of Workforce Development, 201 East Washington Street, Room A400, Madison 53702.

Wyoming—Department of Employment, 1510 E. Pershing Boulevard, 2nd Floor, Cheyenne 82002.

Signed at Washington, DC, this 1 day of October 2007.
Emily Stover DeRocco,
Assistant Secretary, Employment & Training Administration.

[FR Doc. E7-19707 Filed 10-4-07; 8:45 am]

BILLING CODE 4510-FN-P